DEPARTMENT OF LABOR

Office of the Secretary of Labor

Notice of Extension of Request for Public Comment Regarding Revising the List of Products Requiring Federal Contractor Certification as to Forced or Indentured Child Labor Pursuant to Executive Order 13126

AGENCY: Bureau of International Labor Affairs, Department of Labor.

ACTION: Request for comments.

SUMMARY: This notice reopens and extends the period for comments on the Notice of Initial Determination published in the Federal Register on December 2, 2014, proposing to add carpets from India to the List of Products Requiring Federal Contractor Certification as to Forced or Indentured Child Labor (the EO List) (77 FR 59418). The EO List is required by Executive Order 13126 (Prohibition of Acquisition of Products Produced by Forced or Indentured Child Labor), and is developed in accordance with the “Procedural Guidelines for the Maintenance of the List of Products Requiring Federal Contractor Certification as to Forced or Indentured Child Labor Under 48 CFR Subpart 22.15 and E.O. 13126.” The EO List identifies products, by their country of origin, that the Department of Labor, in consultation and cooperation with the Departments of State and Homeland Security (collectively, the Departments), has a reasonable basis to believe might have been mined, produced or manufactured by forced or indentured child labor. In addition to proposing to add a one new item, carpets from India, to the EO List, the initial determination invited comments from the public. Since the initial comment period, additional comments have been submitted to and gathered by the Departments. This notice reopens and extends the comment period on the initial determination, including all of the information that was submitted and gathered during the comment period and after it closed. The comments have raised issues as to whether the evidence is sufficient at this time to satisfy our criteria for adding carpets from India to the EO list; however, a final determination will not be made until the public has had an opportunity to comment on the initial determination and the evidence in the record. The Departments will consider all public comments prior to publishing a final determination revising the EO List.

DATES: Information should be submitted to the Office of Child Labor, Forced Labor, and Human Trafficking (OCFT) via one of the methods described below by no later than 5 p.m. July 15, 2016.

To Submit Information, or For Further Information, Contact: Information submitted to the Department should be submitted directly to OCFT, Bureau of International Labor Affairs, U.S. Department of Labor, at (202) 693-4843 (this is not a toll free number). Comments, identified as “Docket No. DOL-2014-0004,” may be submitted by any of the following methods:

Federal eRulemaking Portal: http://www.regulations.gov. The portal includes instructions for submitting comments. Parties submitting responses electronically are encouraged not to submit paper copies.

Facsimile (fax): OCFT, at 202-693-4830.

Mail, Express Delivery, Hand Delivery, and Messenger Service (2 copies): Rachel Rigby/Charita Castro, at U.S. Department of Labor, OCFT, Bureau of International Labor Affairs, 200 Constitution Avenue NW., RoomS-5317, Washington, DC 20210.

Email: EO13126@dol.gov.

SUPPLEMENTARY INFORMATION:

I. Initial Determination

On December 2, 2014, the Department of Labor (DOL), in consultation and cooperation with the Department of State (DOS) and the Department of Homeland Security (DHS and collectively, the Departments), published a Notice of Initial Determination in the Federal Register proposing to add carpets from India to the List of Products Requiring Federal Contractor Certification as to Forced or Indentured Child Labor (the EO List) (77 FR 59418). The initial determination can be accessed on the Internet at https://federalregister.gov/a/2014-27624

The initial determination invited public comment until January 30, 2015, on whether carpets from India should be included in a revised EO List, as well as any other issues related to the fair and effective implementation of Executive Order 13126. During the comment period, three public comments were submitted. Following the conclusion of the public comment period, nineteen additional comments were submitted to or gathered by the Departments. All comments are available for public viewing at http://www.regulations.gov (reference Docket ID No. DOL-2014-0004).

The initial determination and the public comments can also be obtained from: Office of Child Labor, Forced Labor, and Human Trafficking (OCFT), Bureau of International Labor Affairs, Room S-5317, U.S. Department of Labor, 200 Constitution Avenue NW., Washington, DC 20210; telephone: (202) 693-4843; fax: (202) 693-4830.

II. Information Sought

DOL is reopening and extending the period for public comments on the initial determination proposing to revise the EO List to add carpets from India. DOL invites the public to comment on whether carpets from India should be included in the revised EO List, including comments on all of the information submitted or gathered since the publication of the initial determination. The comments have raised issues as to whether the evidence is sufficient at this time to satisfy our criteria for adding carpets from India to the EO list; however, a final determination will not be made until the public has had an opportunity to comment on the initial determination and the evidence in the record. To the extent possible, comments provided should address the criteria for inclusion of a product on the EO List contained in the Procedural Guidelines discussed below. The information that has been received on this good is available at http://www.regulations.gov (reference Docket ID No. DOL-2014-0004).

In conducting research for the initial determination, the Departments considered a wide variety of materials based on their own research and originating from other U.S. Government agencies, foreign governments, international organizations, non-governmental organizations (NGOs), U.S. Government-funded technical assistance and field research projects, academic and other independent research, media, and other sources. The Department of State and U.S. embassies and consulates abroad also provided important information by gathering data from contacts, conducting site visits and reviewing local media sources. In developing the proposed revision to the EO List, the Departments' review focused on information concerning the use of forced or indentured child labor that was available from the above sources.

As outlined in the Procedural Guidelines, several factors are weighed in determining whether or not a product should be placed on the EO List: The nature of the information describing the use of forced or indentured child labor; the source of the information; the date of the information; the extent of corroboration of the information by appropriate sources; whether the information involved more than an isolated incident; and whether recent and credible efforts are being made to address forced or indentured child labor in a particular country or industry (66 FR 5351).

This notice is a general solicitation of comments from the public. All submitted comments will be made a part of the public record and will be available for inspection at http://www.regulations.gov.

Following receipt and consideration of comments on the addition to the EO List of carpets from India, DOL, in consultation with DOS and DHS, will issue a final determination in the Federal Register. The Departments intend to continue to review the EO List periodically to add and/or remove products as warranted by the receipt of new and credible information.

III. Background

The first EO List was published on January 18, 2001 (66 FR 5353). The EO List was subsequently revised on July 20, 2010 (75 FR 42164); on May 31, 2011 (76 FR 31365); on April 3, 2012 (77 FR 20051); and on July 23, 2013 (78 FR 44158).

Executive Order 13126, which was published in the Federal Register on June 16, 1999 (64 FR 32383), declared that it was “the policy of the United States Government . . . that the executive agencies shall take appropriate actions to enforce the laws prohibiting the manufacture or importation of goods, wares, articles, and merchandise mined, produced or manufactured wholly or in part by forced or indentured child labor.” Pursuant to Executive Order 13126, and following public notice and comment, DOL published in the January 18, 2001, Federal Register a list of products, identified by their country of origin, that DOL, in consultation and cooperation with DOS and the Department of the Treasury (relevant responsibilities now within DHS), had a reasonable basis to believe might have been mined, produced or manufactured by forced or indentured child labor. (66 FR 5353).

Pursuant to Section 3 of Executive Order 13126, the Federal Acquisition Regulatory Council published a final rule in the Federal Register on January 18, 2001, providing, amongst other requirements, that federal contractors who supply products that appear on the EO List must certify to the contracting officer that the contractor, or, in the case of an incorporated contractor, a responsible official of the contractor, has made a good faith effort to determine whether forced or indentured child labor was used to mine, produce, or manufacture any product furnished under the contract and that, on the basis of those efforts, the contractor is unaware of any such use of child labor. (48 CFR Subpart 22.15).

DOL also published on January 18, 2001, “Procedural Guidelines for the Maintenance of the List of Products Requiring Federal Contractor Certification as to Forced or Indentured Child Labor” (“Procedural Guidelines”), which provide for maintaining, reviewing, and, as appropriate, revising the EO List. (66 FR 5351). The Procedural Guidelines provide that the EO List may be revised either through consideration of submissions by individuals or on the initiative of DOL, DOS and DHS. In either event, when proposing to revise the EO List, DOL must publish in the Federal Register a notice of initial determination, which includes any proposed alteration to the EO List. DOL, DOS and DHS consider all public comments prior to the publication of a final determination of a revised EO List.

IV. Definitions

Under Section 6(c) of EO 13126: “Forced or indentured child labor” means all work or service—

(1) Exacted from any person under the age of 18 under the menace of any penalty for its nonperformance and for which the worker does not offer himself voluntarily; or

(2) Performed by any person under the age of 18 pursuant to a contract the enforcement of which can be accomplished by process or penalties.

Signed at Washington, DC, this 13th day of June, 2016.
Carol Pier,
Deputy Undersecretary for International Affairs.

[FR Doc. 2016-14407 Filed 6-16-16; 8:45 am]

BILLING CODE 4510-28-P